DEPARTMENT OF HOUSING AND URBAN DEVELOPMENT

[Docket No. FR-4737-N-04]

Notice of Proposed Information Collection for Public Comment: Customer Survey of Households Living in Federally Assisted Units

AGENCY: Office of the Assistant Secretary for Public Development and Research, HUD.

ACTION: Notice.

SUMMARY: The proposed information collection requirement described below will be submitted to the Office of Management and Budget (OMB) for review, as required by the Paperwork Reduction Act. The department of soliciting public comments on the subject proposal.

DATES: Comment Due Date: September 9, 2002.

ADDRESSES: Interested persons are invited to submit comments regarding this proposal. Comments should refer to the proposal by name and/or OMB Control Number and should be sent to: Reports Liaison Officer, Office of Policy Development and Research, Department of Housing and Urban Development, 451 7th Street, SW., Room 8228, Washington, DC 20410-6000.

FOR FURTHER INFORMATION CONTACT: Barbara Haley, 202-708-5537, ext. 5708 (this is not a toll-free number), for copies of the proposed forms and other available documents.

SUPPLEMENTARY INFORMATION: The Department of Housing and Urban Development will submit the proposed extension of information collection to OMB for review, as required by the Paperwork Reduction Act of 1995 (44 U.S.C. Chapter 35, as amended).

This notice is soliciting comments from members of the public and affected agencies concerning the proposed collection of information to: (1) Evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond; including through the use of appropriate automated collection techniques or other forms of information technology, e.g., permitting electronic submission of responses.

This Notice also lists the following information:

Title of Proposal: Customer Survey of Households Living in Federally Assisted Units.

OMB Control Number: 2528-0170 (exp. 09/30/02).

Description of the Need for the Information and Proposed Use: HUD developed and tested a cost-effective mail survey instrument for assessing the condition of housing units assisted through HUD programs. The pilot survey, which elicited renters' ratings of their housing, provided high levels of agreement with independent condition ratings by professional inspectors. HUD implements the survey as an ongoing tool to assess customer ratings of the condition of housing assisted through Federal programs, including the Section 8, FHA, and public housing programs. This survey helps HUD focus its monitoring and technical assistance resources on property owners and housing authorities whose performance most need improvement. It also provides policy and program managers with valid measures for tracking assisted housing conditions over time and across programs.

Agency Form Numbers: None.

Members of the Affected Public: Households residing in Federally-assisted housing, including FHA assisted-housing, public housing, or units receiving assistance from the Section 8 Housing Choice Voucher Program.

Estimation of the total number of hours needed to prepare the information collection including number of respondents, frequency of response, and hours of response: Information will be collected by an periodic mail survey of 267,000 of the 4.7 million households who live in housing units assisted through Federal programs. Based on the first year of data collection, a 62 percent response rate is expected. The survey will take approximately 15 minutes to complete. This means a total of 41,385 hours of response time annually for the information collection.

Status of the proposed information collection: Pending OMB approval.

Authority: Section 3506 of the Paperwork Reduction Act of 1995, 44 U.S.C. Chapter 35, as amended.

Dated: June 28, 2002.
Lawrence L. Thompson,
General Deputy, Assistant Secretary for Policy Development Research.

[FR Doc. 02-17056 Filed 7-08-02; 8:45 am]

BILLING CODE 4210-62-M